DEPARTMENT OF JUSTICE

[OMB Number 1121-0111]

Agency Information Collection Activities; Proposed eCollection eComments Requested; Revision of a Currently Approved Collection: Title National Crime Victimization Survey (NCVS)

AGENCY: Bureau of Justice Statistics, Department of Justice.

ACTION: 30-Day notice.

SUMMARY: The Bureau of Justice Statistics (BJS), Department of Justice (DOJ), will be submitting the following information collection request to the Office of Management and Budget (OMB) for review and approval in accordance with the Paperwork Reduction Act of 1995.

DATES: Comments are encouraged and will be accepted for 30 days until November 3, 2025.

FOR FURTHER INFORMATION CONTACT: If you have additional comments especially on the estimated public burden or associated response time, suggestions, or need a copy of the proposed information collection instrument with instructions or additional information, please contact: Rachel Morgan, Chief, Victimization Statistics Unit, Bureau of Justice Statistics, 999 N Capitol Street NE, Washington, DC 20531 (email: BJSPRA.Comments@ojp.usdoj.gov; telephone: 202-307-0765).

SUPPLEMENTARY INFORMATION: The proposed information collection was previously published in the Federal Register on July 24, 2025, allowing a 60-day comment period. BJS received two public comments under the 60-day notice.

Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0111]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a currently approved collection.

2. Title of the Form/Collection: National Crime Victimization Survey.

3. Agency form number, if any, and the applicable component of the Department of Justice sponsoring the collection: The form numbers for the questionnaire are the NCVS-1 and NCVS-2. The applicable component within the Department of Justice is the Bureau of Justice Statistics, in the Office of Justice Programs.

4. Affected public who will be asked or required to respond, as well as a brief abstract: Affected Public: Persons 12 years or older living in sampled households located throughout the United States.

Abstract: The National Crime Victimization Survey (NCVS) provides national data on the level and change of criminal victimization both reported and not reported to police in the United States. The NCVS instrument measures victimization and incident characteristics and includes two periodic modules on police performance and community safety. The 2026 NCVS includes a sample redesign which updates the first stage of the NCVS sample selection to reflect changes in the U.S. population based on the 2020 decennial census.

5. Obligation to Respond: The obligation to respond is voluntary.

6. Total Estimated Number of Respondents: The estimated annual number of NCVS respondents is 157,439.

7. Estimated Time per Respondent: To complete the NCVS instrument, the time per response is 34.4 minutes. It will take the average non-interview respondent (e.g., nonrespondent) an estimated 9.3 minutes to respond; the average follow-up interview is estimated at 7 minutes; and the average follow-up for a non-interview is estimated at 1 minute.

8. Frequency: Annual.

9. Total Estimated Annual Time Burden: The total annual burden hours for this collection is 123,202 hours.

10. Total Estimated Annual Other Costs Burden: $0.

Total Burden Hours
Activity | Number of respondents | Frequency | Total annual responses | Time per response (mins) | Total annual burden (hours)
Interviewed | 91,312 | 2 | 182,624 | 34.4 | 104,698
Noninterviewed | 56,772 | 2 | 113,544 | 9.3 | 17,599
Reinterview (Interviews) | 7,484 | 1 | 7,484 | 7.0 | 873
Reinterview (Non-interviews) | 1,871 | 1 | 1,871 | 1.0 | 31
Unduplicated Totals | 157,439 |  | 305,523 |  | 123,202

If additional information is required contact: Darwin Arceo, Department Clearance Officer, Enterprise Portfolio Management, Justice Management Division, United States Department of Justice, Two Constitution Square, 145 N Street NE, 4W-218, Washington, DC 20530.

Dated: September 30, 2025.
Darwin Arceo,
Department Clearance Officer for PRA, U.S. Department of Justice.

[FR Doc. 2025-19285 Filed 10-1-25; 8:45 am]

BILLING CODE 4410-18-P